DEPARTMENT OF LABOR

Employment and Training Administration

[TA-W-58,119]

Cole Hersee Company, South Boston, MA; Notice of Termination of Investigation

Pursuant to Section 221 of the Trade Act of 1974, as amended, an investigation was initiated on October 12, 2005 in response to a petition filed by a company official on behalf of workers of Cole Hersee Company, South Boston, Massachusetts.

The petitioner has requested that the petition be withdrawn. Consequently, the investigation has been terminated.

Signed at Washington, DC, this 18th day of November 2005.
Linda G. Poole,
Certifying Officer, Division of Trade Adjustment Assistance.

[FR Doc. E5-6875 Filed 12-5-05; 8:45 am]

BILLING CODE 4510-30-P